ENVIRONMENTAL PROTECTION AGENCY

[FRL-7934-7]

Gulf of Mexico Program Office Funding Opportunity

AGENCY: Environmental Protection Agency ( EPA).

ACTION: Announcement of funding opportunity.

SUMMARY: An estimated amount of $275,000 for one to five cooperative agreements may be awarded under this announcement. Projects must actively involve stakeholders and focus on the reduction of nutrient loads to the lower Mississippi River and its tributaries through innovative partnerships for developing locally led non-point source nutrient management solutions in the sub-basins of the Mississippi River Watershed.

DATES: Deadline for Submissions is 5 p.m., central time, August 17, 2005.

ADDRESSES: Submissions should be sent electronically to car.gloria@epa.gov with the proposal attached. Electronic messages must use the subject line: GMPO Request for Initial Proposal Submission.

FOR FURTHER INFORMATION CONTACT: Esther Coblentz, Gulf of Mexico Program Office, at (228) 688-1281 or coblentz.esther@epa.gov.

SUPPLEMENTARY INFORMATION:

Overview Information

Federal Agency Name: Environmental Protection Agency, Gulf of Mexico Program Office.

Funding Opportunity Title: EPA Gulf of Mexico Program Office Request for Initial Proposals: Innovative Producer Partnership Initiatives to Reduce Hypoxia in the Gulf of Mexico.

Announcement Type: Initial Announcement.

Funding Opportunity Number: GM2005-1.

Catalog of Federal Domestic Assistance (CFDA) Number: 66.475.

Dates: For further information, see Section IV. The deadline for submissions is 5 p.m., central time, August 17, 2005. If you do not have the capability to submit electronically, please contact Esther Coblentz (228) 688-1281 or coblentz.esther@epa.gov for information on how you may apply under this announcement. Initial proposals must be submitted by electronic mail. This announcement will be posted on the Web site at http://www.epa.gov/gmpo and http://www.fedgrants.gov and announced in the Federal Register. All Initial Proposals must be submitted by the closing date and will not be accepted after that date.

Funding Opportunity Description: An estimated amount of $275,000 for one to five cooperative agreements may be awarded under this announcement for improving the health of the Gulf of Mexico. Projects must actively involve stakeholders and focus on the reduction of nutrient loads to the lower Mississippi River and its tributaries through innovative partnerships for developing locally led non-point source nutrient management solutions in the sub-basins of the Mississippi River Watershed.

I. Funding Opportunity Description

Background

The Gulf of Mexico Program's (GMP) mission is to protect, restore, and enhance the coastal and marine waters of the Gulf and its natural habitats; to sustain living resources; to protect human health and the food supply; and to ensure the long-term use of the Gulf shores, beaches, and waters. To carry out the GMP mission, we must continue to develop and maintain a partnership of State and Federal agencies, local governments, academia, regional business and industry, agricultural and environmental organizations, and individual citizens and communities that effectively addresses the complex ecological problems that cross State, Federal, and international jurisdictions and boundaries.

Linkage to EPA Strategic Plan/Expected Environmental Outcomes

The Gulf of Mexico Program Office (GMPO) is announcing the availability of funding and issuing this Request For Initial Proposals addressing one or more activities that are specifically focused on the Mississippi River Basin and are designed to achieve the environment outcome of reducing nutrient loading and ultimately the size of the Hypoxic Zone in the Gulf of Mexico to less than 5,000 square kilometers by the year 2015.

Successful proposals must have clear and measurable environmental results directly related to EPA's Strategic Plan Goal 4 (Healthy Communities and Ecosystems), Objective 3 (Ecosystems), Subobjective 5 (Improve the Health of the Gulf of Mexico).

In support of Subobjective 4.3.5, and consistent with EPA Order 5700.7 on environmental results, the consequences of the awards issued pursuant to the respective topics will be the accomplishment of the environmental outcome of reducing nitrogen loading and thus the size of the hypoxic zone to less than 5,000 square kilometers by year 2015. Each topic area includes a description of some of the possible activities for that area, not all of which would be achievable within an assistance agreement funding period and not all of which would necessarily result from each project selected.

All proposals submitted will be reviewed for eligibility under Section 104 (b)(3) of the Clean Water Act. Assistance Agreements are authorized under this statutory authority to conduct and promote the coordination and acceleration of research, investigations, experiments, training, demonstrations, surveys, and studies relating to the causes, effects, extent, prevention, reduction, and elimination of pollution. This Federal financial assistance program is identified in the Catalog of Federal Domestic Assistance as CFDA 66.475, see http://www.cfda.gov.

For this announcement, priority will be given to proposals that actively involve stakeholders and focus on the environmental outcome of achieving reduction of nutrient loads to the lower Mississippi River and its tributaries through innovative partnerships for developing locally led non-point source nutrient management solutions in the sub-basins of the Mississippi River Watershed which will reduce the size of the hypoxic zone. For information on the sub-basins see http://www.epa.gov/msbasin/index.htm#intro. These activities are intended to help support the implementation of the Action Plan for Reducing, Controlling, and Mitigating Hypoxia in the Northern Gulf of Mexico. http://www.epa.gov/msbasin/planintro.htm.

Specific activities to be included are part of a strategy to achieve the environmental outcome of reduced nitrogen into the Gulf of Mexico thus reducing the size of the hypoxic zone to less than 5,000 square kilometers by 2015:

1. Conducting a workshop designed to empower industry leaders to proactively identify effective approaches for addressing complex nutrient management challenges related to production agriculture. The workshop will be designed and conducted to develop a detailed plan to fulfill commitments for nutrient reductions using Best Management Practices (BMPs) and other measures in the Mississippi River Basin on a sub-watershed or sub-basin basis in support of the Hypoxia Action Plan. Output: A detailed plan for commitment to implement self-sustaining stakeholder-led, sub-watershed nutrient reduction strategies to achieve measurable environmental outcomes as indicated in the Hypoxia Action Plan; a final report after the workshop.

2. Introducing and supporting innovative nutrient reduction strategies in three sub-basins in the Mississippi River watershed. Key producer leaders will be placed on the sub-basin committees to integrate this effort through on-going collaboration with the Upper Mississippi River and Lower Mississippi River sub-basin teams and to help conduct specifically targeted regional workshops to develop a multi-state strategy to reduce nutrient loads to the Gulf of Mexico. Output: Development of nutrient reduction strategies to achieve the environmental outcome of reducing the size of the hypoxic zone in the Gulf of Mexico: placement of producers on sub-basin committees; and final report. Supports Hypoxia Action Plan Item 2.

3. Securing participation of model research farms to ensure focused working relationships. Determine a joint framework and agreement to support comprehensive Best Management Practices (BMPs) and water quality monitoring efforts. Supports Hypoxia Action Plan Items 3, 4 and 5.

4. Working collaboratively with EPA, NRCS, sub-basin committees, and other stakeholders in the identification and selection of pilot microwatersheds. Output: Report on the progress of efforts to develop criteria for selection of microwatersheds.

5. Maintaining and building an innovative agriculture leadership coalition to pilot a planned microwatershed approach to reduce nutrient loads in six Mississippi River Basin microwatersheds. Output: Develop nutrient reduction management plans in 6 microwatersheds; increase the innovative leadership coalition by 50 percent; annual report on the coalition building.

6. Building a comprehensive awareness of nutrient reduction actions within a training plan for a uniform approach to microwatersheds. Hypoxia Action Plan Item 6.

7. Building a system of expert teams tasked with science-based planning, coordination and communication of outcomes including benchmarking, modeling, and interpretation of monitoring efforts. (See Section III, Eligibility Criteria) Hypoxia Action Plan 4, 5, and 10.

II. Award Information

Funding Amounts and Number of Awards

Under this funding opportunity, we expect to award an estimated $275,000 depending on availability of funds. One to five projects will be awarded. EPA reserves the right to make no awards under this announcement. We will reserve the right to offer partial funding of a proposal by funding discrete activities, portions, or phases of the proposed project. If EPA decides to partially fund the proposed project, it will do so in a manner that does not prejudice any applicants or affect the basis upon which the proposed project, or portion thereof, was evaluated and selected, and that maintains the integrity of the competition and the selection/evaluation process. Additional awards may be made if additional funding becomes available up to 4 months after the original selection decisions are announced. The period of performance is from 0.5 years to two years.

Type of Award

Successful applicants will be issued a cooperative agreement. Cooperative agreements require substantial EPA involvement with the recipient in the form of programmatic oversight and review and comment on all agreement activities and products. When a cooperative agreement is awarded, EPA's involvement in carrying out the work with the applicant will be described in a selection letter and identified in the terms and conditions of the award document. In general, cooperative agreements awarded will be one-time awards and recipients should use the funds within the period of performance (from 0.5 years to two years).

III. Eligibility Information

Eligible Applicants

State and local governments, interstate agencies, tribes, colleges and universities, individuals, and other public or nonprofit organizations. An applicant's failure to meet eligibility criterion by the time of any award will preclude EPA from making an award. EPA/GMPO will require nonprofit organizations selected for funding to provide verification of their nonprofit status prior to the grant award.

Eligibility Criteria

Projects must be consistent with the Clean Water Act Section 104(b)(3) authority. All initial proposals submitted will be reviewed for eligibility under Section 104(b)(3) of the Clean Water Act (CWA). Water Quality Cooperative Agreements are authorized under this statutory authority to conduct and promote the coordination and acceleration of research, investigations, experiments, training, demonstrations, surveys, and studies relating to the causes, effects, extent, prevention, reduction, and elimination of pollution.

Projects that implement “Best Management Practices” or any type of construction activities must qualify as a demonstration project under CWA § 104(b)(3). A demonstration project must involve new or experimental technologies, methods, or approaches, where the results of the project will be disseminated so that others can benefit from the knowledge gained in the demonstration project. A project that is accomplished through the performance of routine, traditional, or established practices, or a project that is simply intended to carry out a task rather than transfer information or advance the state of knowledge is not a demonstration.

Projects must focus on reducing nutrient loads to the lower Mississippi River and its tributaries and nutrient management solutions in the sub-basins of the Mississippi River Watershed in order to reduce the size of the hypoxic zone in the Gulf of Mexico.

Matching Requirements

There is no matching requirement; however, the evaluation criteria requires partnerships and leverage funding which will be considered by reviewers during evaluation. Nonfederal match is strongly encouraged (at least 5%), and may be provided in the form of cash or in-kind services, such as staffing. Matching funds are considered to be cooperative agreement funds and may be used for reasonable and necessary expenses of carrying out the project described in the Final Project Workplan. Any restrictions on the use of grant funds, including project budget periods, also apply to the use of matching funds. All project expenditures, including both the federal and nonfederal share, are subject to federal regulations governing the use of federal funds. Other federal money cannot be used as match unless authorized by the statute governing the award of the other federal funds. Reductions to the amount of the match after a proposal is selected for funding may result in loss of funding.

Ineligible Activities

Applicants must adhere closely to the types of projects authorized for funding under CWA § 104(b)(3) in developing initial proposals. Unauthorized project types will be disqualified. Types of projects that are ineligible for funding are routine construction projects, except to a limited degree to demonstrate innovation, prevention, or removal of pollution; land acquisition; or projects that are largely general education/outreach or conferences unless they meet a clear need to accomplish a public purpose and not for the direct benefit of EPA. In accordance with Executive Order 12579, organizations that have been debarred or suspended from a program by any federal agency will not be eligible to receive an award or subaward through this solicitation.

Threshold Eligibility Requirements

Initial Proposal packages that are incomplete will be disqualified. Applicants must follow Initial Proposal Format in developing and submitting your proposal.

Applications which do not comply with the administrative review requirements contained in the Application and Submission of Information Section (Part IV) will not be reviewed and those submissions will be returned to the applicant.

IV. Application and Submission Information

Content and Format of Project Preproposals

• Follow the initial proposal format and instructions provided below.

• Use Microsoft Word or Adobe Acrobat for electronic submissions.

Examples From Previous Years

When developing project submissions, you may look at types of successful projects from previous years, available at http://www.epa.gov/gmpo.

Dates and Times

• Transmit electronically by 5 p.m. Central Time, August 17, 2005.

• Initial proposals dated after this time will be disqualified.

• Use an e-mail return receipt for verification of receipt if you want to confirm delivery.

Funding Restrictions: See Section III. Eligibility Information.

Submission

Send electronic submittals to car.gloria@epa.gov/gmpo with the initial proposal attached.

Electronic messages must use the subject line: “GMPO Request for Initial Proposal Submission.” Messages from unknown senders without this subject line may be inadvertently deleted to avoid computer viruses.

For initial proposals submitted electronically, electronic signatures are not required at the time of submission. If GMPO selects the proposal for funding, the signature of an authorized off cial and any contributors of 3rd party in-kind match will be required when the full proposal is submitted. We recommend that applicants use e-mail return receipt that provides verification of receipt if you wish to confirm that GMPO has received your project proposal.

Confidentiality

In accordance with 40 CFR 2.203, applicants may claim all or a portion of their application/proposal as confidential business information. EPA will evaluate confidentiality claims in accordance with 40 CFR part 2. Applicants must clearly mark applications/proposals or portions of applications/proposals they claim as confidential. If no claim of confidentiality is made, EPA is not required to make the inquiry to the applicant otherwise required by 40 CFR 2.204(c)(2) prior to disclosure.

Other Considerations

Projects are subject to Intergovernmental Review under Executive Order 12372.

Initial Proposal Format

Applicant Information

Applicant Information: Business Mailing and Contact information, including e-mail address. DUNS number if Applicant Organization has one.

Type of Organization: State or local government, interstate agency, tribe, college or university, individual, or other public or nonprofit organizations.

Applicants must submit information relating to the programmatic capability criteria to be evaluated under the ranking factor(s) in section V of the announcement. EPA will consider information from other sources including Agency files.

Project Summary Information

Project Title.

Brief Project Description: Summarize the project. Do not use acronyms.

Duration: Specify project period of performance, from 0.5 years up to 2 years.

Topic: Choose one: Identify by Tasks in Funding Announcement.

Geographic Applicability

Applicable Mississippi River Basin: Mississippi River Basin(s) which would be most impacted by this project.

Applicable Geographic Location: If applicable, geographic locations which would be most impacted by this project, include the Hydrologic Unit Code (HUC) for the Project location. HUCs can be found on EPA's Surf Your Watershed Web site at http://www.epa.gov/surf/locate/index.cfm.

Project Location: As applicable, enter City, County, and State(s).

Problem, Work, Results

Problem Statement: Describe the issue that will be addressed and its relevance to the Gulf of Mexico, particularly to needs and priorities in Sub-objective 4.3.5 (Improve the Health of the Gulf of Mexico Ecosystem) of EPA's Strategic Plan; addressing one or more activities that are specifically focused on the Mississippi River Basin and are designed to achieve the environmental outcome of reducing nutrient loading and ultimately the size of the Hypoxic Zone in the Gulf of Mexico. Projects must actively involve stakeholders and focus on reducing nutrient loads to the lower Mississippi River and its tributaries through innovative partnerships for developing locally led non-point source nutrient management solutions in each of the sub-basins of the Mississippi River Watershed. (For information on subbasins http://www.epa.gov/msbasin/index.htm#intro.) These activities are intended to implement the Action Plan for Reducing, Controlling, and Mitigating Hypoxia in the Northern Gulf of Mexico.

Proposed Work: Describe what will be done and how. Many of the criteria will be addressed here.

Environmental Results: Describe anticipated environmental outputs and outcomes and their linkages to the problem statement. (See Outcomes/Outputs described in Section 1 and Environmental Results Order 5700.7 at: http://www.epa.gov/ogd/grants/award/5700.7.pdf). Specify affected pollutants, industry sectors, economic impacts, habitats, and/or species as applicable for the topic, and proposed progress toward delisting, toward restoration of beneficial use impairments, and/or toward reducing nitrogen loading and the size of the hypoxic zone in the Gulf of Mexico.

Measuring Progress: Describe your plan for tracking, measuring, and reporting progress toward achieving expected outputs and outcomes. Initial Proposals must address the applicant's past performance in documenting the achievement of expected outcomes/outputs including, if applicable, satisfactory explanations of why outcomes/outputs were not achieved. The applicant must describe the ability to specify and measure the expected environmental outcomes/outputs and performance measures to be accomplished as a result of the project. See Environmental Results Order 5700.7 at http://www.epa.gov/ogd/grants/award/5700.7.pdf

Project Milestones

Milestones: Specify milestones and/or final products and projected due dates, including Project Start and End.

Education

Education/Outreach Component: Identify whether project includes an education/outreach component. If applicable, describe the target audience and how that group would be impacted by the project.

Collaboration

Collaboration/Partnerships: Describe plans and status of collaboration and partnerships amongst the public, private, and independent sectors.

Project Budget

Budget: Specify how the total of EPA funds and Applicant matching funds will be used for: Personnel/salaries, fringe benefits, travel, equipment, supplies, contract costs, and other costs. Include narrative descriptions for costs you identify as “contract” or “other”. You may include a separate line for indirect costs if your organization has in place (or will negotiate) an “indirect cost rate.” Budget should represent the total which would be requested from EPA for the project's duration. Funding is not assured for subsequent years for any project.

Other Sources of Funding

Other Funding: If others are expected to contribute funds to your Project, list Name(s) of providers, amount provided, and commitments made by each.

V. Application Review Information

Criteria

Projects will be evaluated based on the Criteria specified as follows:

1. Relevance/Rationale: (20 Points)

Importance and/or relevance and applicability of the proposed approach to the Hypoxia Action Plan and the level of support of long-term goals and implementation actions.

There is intrinsic value in the proposed work and/or relevance to the Hypoxia Action Plan and Task Force activities. Refers to the likelihood that the approach proposed will make substantial nutrient reductions or develop strategies leading to improved nutrient management within the basin.

2. Scientific/Professional Merit: (20 Points)

The approach is technically sound and/or innovative; the methods, approaches, concepts are appropriate; there are clear goals and objectives, and there is a plan for tracking and measuring progress toward achieving the expected outcomes/outputs identified.

3. Programmatic Capability: (20 Points)

The technical capability of the applicant to successfully carry out a project taking into account such factors as the applicant's (1) past performance in successfully completing projects similar in size, scope, and relevance to the proposed project, (2) history of meeting reporting requirements on prior or current assistance agreements and submitting acceptable final technical reports and applicable closeout documentation, (3) organizational experience and plan for timely and successfully achieving the objectives of the project, and (4) staff expertise/ qualifications, education, training, facilities, administrative resources, staff knowledge, and resources or the ability to obtain them, to successfully achieve the goals of the project. (Refer also to EPA Order 5700.8 http://www.epa.gov/ogd/grants/award/5700_8.pdf).

4. Budget: (10 Points)

The reasonableness and appropriateness of the proposed budget for the level of work proposed and with the expected benefits to be achieved.

5. Stakeholders: (20 Points)

The quality of proposed partnerships, including the degree of broad participation within the Mississippi River Watershed and demonstration of significant partnering among the agricultural community that results in socio-economic merits and outreach and education. Applications will also be evaluated on whether they provide a partnership with a focused and effective education and outreach strategy regarding the long-term commitment to the proposed objectives of the Hypoxia Action Plan.

6. Leveraging Funding: (10 Points)

Ability of applicant to leverage other public or private funding to complete or complement the project.

Review and Selection Process

Evaluation and selection process will include the following steps:

Screen for threshold eligibility.

Review and score proposals against criteria (Reviewers/Panel).

Rank all proposals according to total score.

Announce selections.

Contact Successful applicants and request a detailed grant application and final workplan.

Final Applications/Workplans reviewed and ranked.

Approval Official determines Final Projects.

EPA employees as well as GMP reviewers and/or panel members who score project proposals will be required to sign a Conflict of Interest Disclosure Form and will not score any proposal in which they have a personal, familial, or financial interest. If an individual has a conflict of interest with respect to any proposal, then they cannot review any proposal. The Director of the Gulf of Mexico Program will make the final selections.

Anticipated Announcement Date

GMPO will post a list of all initial proposals selected for funding on or about September 15, 2005. The list will be posted at the following site: http://www.epa.gov/gmpo. All applicants, including those who are not selected for funding will be notified by mail.

VI. Award Administration Information

Award Notices

EPA has 60 days to issue an award following receipt of the complete, fundable Application Package. Final funding decisions are based upon the Application Packages.

Pre-Award Review for Administrative Capability

Non-profit applicants that are recommended for funding will be subject to pre-award administrative capability reviews consistent with paragraphs 8.b, 8.c, and 9.d of EPA Order 5700.8 http://www.epa.gov/ogd/grants/award/5700_8.pdf and may be required to fill out and document an “Administrative Capability” form.

Administrative and Reporting Requirements

The successful applicant will be required to adhere to the Federal grants requirements, particularly those found in applicable OMB circulars on Cost Principles (A-21, A-87, or A-122), Administrative Requirements (A-102 or 110), and Audit Requirements (A-133) available from http://www.whitehouse.gov/omb/grants/. This includes government-wide requirements pertaining to accounting standards, lobbying, minority or woman business enterprise, publication, meetings, construction, and disposition of property. EPA regulations governing assistance programs and recipients are codified in Title 40 of the Code of Federal Regulations. Those requirements, GMPO-specific requirements currently in effect, and the application materials that will be needed by applicants ultimately selected in this process can be found at http://www.epa.gov/gmpo. The successful Federal applicant will be required to comply with the OMB Circular and appropriate sections of Title 40 of the Code of Federal Regulations determined applicable by GMPO. This determination will be embodied in the terms and conditions of an interagency agreement.

Dispute Resolution Process

Assistance agreement competition-related disputes involving any applicant, including Federal applicants, will be resolved in accordance with the dispute resolution procedures published in 70 FR (Federal Register) 3629, 3630 (January 26, 2005) which can be found at http://a257.g.akamaitech.net/7/257/2422/01jan20051800/edocket.access.gpo.gov/2005/05-1371.htm.

Copies of these procedures may also be requested by contacting coblentz.esther@epa.gov.

Please note that this is not a complete list of all regulations and policies that govern these funds. Our Grants Management Office Web site at http://www.epa.gov/region4/grants/regulations.html identifies other grant regulations that apply.

VII. Agency Contact Information

Contacts may provide appropriate assistance to help potential applicants determine whether the applicant itself or the applicant's proposed project is eligible for funding, to assist with administrative issues relating to submission, and to respond to requests for clarification of the announcement. Applicants are solely responsible for the content of their submissions. General Gulf of Mexico Program Contact: Esther Coblentz, 228-688-1281 or coblentz.esther@epa.gov.

VIII. Other Information

Funding amounts are estimates of the maximum amount that will be available, based on our best available information. These amounts are subject to change without further notification, based on the amount of federal funds actually appropriated and allocated for these programs. EPA reserves the right to reject all proposals and make no awards.

Although an Application for Federal Assistance (Standard Form 424 and attachments) is not required when the initial proposal is submitted, we encourage you to review our grant application package at http://www.epa.gov/gmpo to become familiar with the information and certifications that will be required if your proposal is selected for funding.

Dated: June 29, 2005.
Gloria D. Car,
Deputy Director, Gulf of Mexico Program Office.

[FR Doc. 05-13379 Filed 7-6-05; 8:45 am]

BILLING CODE 6560-50-P